SMALL BUSINESS ADMINISTRATION

[Declaration of Disaster #P010]

State of Arkansas (Amendment #1)

In accordance with a notice received from the Department of Homeland Security—Federal Emergency Management Agency, effective June 10, 2003, the above numbered declaration is hereby amended to establish the incidence period for this disaster as beginning on May 2, 2003, and continuing through June 10, 2003.

All other information remains the same, i.e., the deadline for filing applications for physical damage is August 5, 2003.

(Catalog of Federal Domestic Assistance Program Nos. 59008.)
Dated: June 18, 2003.
Cheri C. Wolff,
Acting Associate Administrator for Disaster Assistance.

[FR Doc. 03-15892 Filed 6-23-03; 8:45 am]

BILLING CODE 8025-01-P